INTERNATIONAL TRADE COMMISSION

[Investigation No. 731-TA-638 (Fifth Review)]

Stainless Steel Wire Rod From India

Determination

On the basis of the record ¹ developed in the subject five-year review, the United States International Trade Commission (“Commission”) determines, pursuant to the Tariff Act of 1930 (“the Act”), that revocation of the antidumping duty order on stainless steel wire rod from India would be likely to lead to continuation or recurrence of material injury to an industry in the United States within a reasonably foreseeable time.

¹ The record is defined in § 207.2(f) of the Commission's Rules of Practice and Procedure (19 CFR 207.2(f)).

Background

The Commission instituted this review on May 2, 2022 (87 FR 25671) and determined on August 5, 2022 that it would conduct an expedited review (87 FR 64246, October 24, 2022).

The Commission made this determination pursuant to section 751(c) of the Act (19 U.S.C. 1675(c)). It completed and filed its determination in this review on December 20, 2022. The views of the Commission are contained in USITC Publication 5396 (December 2022), entitled Stainless Steel Wire Rod from India: Investigation No. 731-TA-638 (Fifth Review).

By order of the Commission.
Issued: December 20, 2022.
Katherine Hiner,
Acting Secretary to the Commission.

[FR Doc. 2022-28043 Filed 12-23-22; 8:45 am]

BILLING CODE 7020-02-P